DEPARTMENT OF THE INTERIOR

Bureau of Land Management

[WO-320-1990-FA-24 1A]

Extension of Approved Information Collection, OMB Approval Number 1044-0114

AGENCY: Bureau of Land Management, Interior.

ACTION: Notice and request for comments.

SUMMARY: In accordance with the Paperwork Reduction Act of 1994, the Bureau of Land Management (BLM) is requesting the Office of Management and Budget (OMB) to extend an existing approval to collect information from owners of unpatented claims, mill sites, and tunnel sites. BLM uses Forms 3830-2 and 3830-3 to collect this information to:

(1) Record such claims and sites;

(2) Determined the land status at the time of location;

(3) Collect annual maintenance and location fees;

(4) Process Waivers of annual fees;

(5) Process annual affidavits of labor or notices of intent to hold a mining claim or site;

(6) Process requests for deferments from assessment work;

(7) Process transfers of interest; and

(8) Adjudicate such claims and sites.

The regulations under 43 CFR part 3830-3833, 3840-3843, 3850-3852 authorized BLM to collect the above information to manage the general mining law activities on public lands.

DATES: You must submit your comments to BLM at the address below on or before March 17, 2003. BLM will not necessarily consider any comments received after the above date.

ADDRESSES: You may mail comments to: Regulatory Affairs Group (630), Bureau of Land Management, Mailstop 401LS, 1849 C Street, NW., Washington DC 20240.

You may send comments via Internet to: WOComment@blm.gov. Please include “ATTN: 1004-0114” and your name and return address in your Internet message.

You may deliver comments to the Bureau of Land Management, Administrative Record, Room 401, 1620 L Street, NW., Washington, DC.

All comments will be available for public review at the L Street address during regular business hours (7:45 a.m. to 4:15 p.m.) Monday through Friday.

FOR FURTHER INFORMATION CONTACT: You may contact Roger A. Haskins on (202) 452-0372 (Commercial or FTS). Persons who use a telecommunication device for the deaf (TDD) may call the Federal Information Relay Service (FIRS) on 1-800-877-8330, 24 hours a day, seven days a week, to contact Mr. Haskins.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Federal Land Policy and Management Act of 1976, 30 U.S.C. 28f (Pub. L. 105-277), and the regulations under 43 CFR parts 3830-3833, 3840-3843, 3850-3852 authorizes BLM to collect information from owners of unpatented claims, mill sites and tunnel sites to manage the general mining law activities on public lands.

BLM uses Form 3830-2 (Maintenance Fee Waiver) to collect the information to waive the $100 annual maintenance fee that owners of unpatented mining claims, mill sites, and tunnel sites must pay. The owners of unpatented mining claims, mill sites, and tunnel sites must submit the following information to BLM:

(1) The mining claims names and BLM serial numbers;

(2) A declaration that the owners own or have interest in 10 or fewer claims or sites;

(3) A declaration of compliance with the assessment work requirements;

(4) The names and addresses of all owners of the claims and sites; and

(5) The owners'/agents' signatures.

BLM uses Form 3830-3 (Notice of Intent to Locate A Lode or Placer Mining Claim(s) and/or A Tunnel Site(s) and Lands Patented Under the Stock Raising Homestead Act of 1916, amended to collect information on an applicant who files a notice of intent to locate or explore for a mining claim or tunnel site. The applicant must submit the following information to BLM:

(1) The name and mailing address of the applicant filing the notice of intent to locate or explore for a mining claim or tunnel site;

(2) A legal land description of the lands which the notice of intent will apply;

(3) A brief description of the proposed mineral activities;

(4) A map and legal land description of lands subject to mineral exploration;

(5) The name, address, and phone number of the person managing the activities; and

(6) The dates the activities will take place.

BLM uses the information on recording claims, annual assessment work, notice of intent to hold, and transfer of interest to:

(1) Determine the number and location of unpatented mining claims, mill sites and tunnel sites located on Federal lands to assist in the surface management of these lands and any minerals found there;

(2) Remove any cloud on the title to those lands due to abandoned mining claims;

(3) Provide information as to the location of active claims; and

(4) Keep informed of transfers of interest and ownership.

Without this information, BLM could not protect the rights of surface and mineral owners. Also, the Government's ability to locate, control, and manage surface disturbance is compromised.

Based upon BLM experience, the public reporting information collection burden takes eight minutes per response. The respondents are owners of unpatented mining claims, mill sites, and tunnel sites located on public lands and individuals or organizations who seek to explore for or locate a mining claim. The estimated number of responses per year is 236,852 and the total annual burden is 31,580 hours.

BLM will summarize all responses to this notice and include them in the request for OMB approval. All comments will become a matter of public record.

Dated: January 9, 2003.
Michael H. Schwartz,
Bureau of Land Management, Information Collection Clearance Officer.

[FR Doc. 03-777 Filed 1-14-03; 8:45 am]

BILLING CODE 4310-84-M